DEPARTMENT OF COMMERCE

National Oceanic and Atmospheric Administration

[I.D. 072402A]

Receipt of Two Applications for Direct Take Permits (1395 and 1396)

AGENCY: National Marine Fisheries Service (NMFS), National Oceanic and Atmospheric Administration (NOAA), Commerce.

ACTION: Notice of availability.

SUMMARY: NMFS has received applications for direct take permits (Permits) from the Washington Department of Fish and Wildlife (WDFW) and U.S. Fish and Wildlife Service (USFWS) pursuant to the Endangered Species Act of 1973, as amended (ESA) (permit numbers 1395 and 1396, respectively). Chelan County Public Utilities District (PUD) and Douglas County PUD are co-applicants with WDFW for permit 1395 as agreed to in the Habitat Conservation Plans (HCPs) developed for the operation of Rock Island, Rocky Reach and Wells hydro electric projects; the USFWS is the applicant for permit 1396. As required by the ESA, the WDFW, Chelan PUD, Douglas PUD and USFWS have prepared conservation plans (Plans) designed to minimize and mitigate any such take of endangered or threatened species. The Permit applications are for the direct and incidental take of ESA-listed adult and juvenile salmonids associated with carrying out hatchery programs for endangered Upper Columbia River steelhead in the upper Columbia River and its tributaries in the state of Washington. The duration of the proposed Plans and Permits is 5 years. NMFS is furnishing this notice in order to allow other agencies and the public an opportunity to review and comment on these documents. All comments received will become part of the public record and will be available for review pursuant to the ESA.

DATES: Written comments from interested parties on the Permit applications and Plans must be received at the appropriate address or fax number (see ADDRESSES) no later than 5 p.m. Pacific daylight time on September 3, 2002.

ADDRESSES: Written comments on the applications and Plans should be sent to Kristine Petersen, Sustainable Fisheries Division, 525 N.E. Oregon Street, Suite 510, Portland, OR 97232. Comments may also be sent via fax to 503/872-2737. Comments will not be accepted if submitted via e-mail or the Internet. Requests for copies of the permit applications and Conservation Plans should be directed to the Sustainable Fisheries Division, 525 N.E. Oregon Street, Suite 510, Portland, OR 97232. The documents are also available on the Internet at http://www.nwr.noaa.gov/. Comments received will also be available for public inspection, by appointment, during normal business hours by calling 503/230-5409.

FOR FURTHER INFORMATION CONTACT: Kristine Petersen, Portland, OR (ph: 503/230-5409, fax: 503/872-2737, e-mail: Kristine.Petersen@noaa.gov ).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species for scientific purposes or to enhance the propagation or survival of the species under section 10(a)(1)(A) of the ESA. NMFS regulations governing permits for threatened and endangered species are promulgated at 50 CFR 222.307.

Species Covered in This Notice

The following evolutionarily significant units (ESUs) are included in the Plan and Permit application:

Steelhead (Oncorhynchus mykiss): endangered, naturally produced and artificially propagated Upper Columbia River (UCR).

Chinook salmon (O. tshawytscha): endangered, naturally produced and artificially propagated, UCR spring-run.

Applications Received

Two section 10(a)(1)(A) permits for artificial propagation and release of endangered Upper Columbia River Basin ESU steelhead will expire on May 31, 2003. In anticipation of this expiration date, the WDFW and USFWS are applying for new permits covering similar actions. Upper Columbia River Basin ESU steelhead were listed as endangered on August 18, 1997 (62 FR 43937). Included in the listing decision was the determination that the Wells Hatchery stock was part of the ESU and essential for recovery efforts.

On June 12, 2002, WDFW submitted an application to NMFS for an ESA section 10(a)(1)(A) permit for the take of ESA-listed anadromous fish species associated with operation of hatchery programs producing hatchery steelhead for release into the Columbia River at Ringold Springs Rearing facility and upstream of Rock Island Dam from the Wenatchee River to the Okanogan River Basin from 2002 to 2007. Incidental take would include endangered spring chinook salmon in the Upper Columbia River ESU. The proposed programs produce steelhead of native stock to enhance local naturally spawning salmon populations.

On June 11, 2002, USFWS submitted an application to NMFS for an ESA section 10(a)(1)(A) permit for the direct take of ESA-listed anadromous fish species associated with operation of hatchery programs producing endangered steelhead for release into the Methow River from 2002 to 2007. Incidental take would include endangered spring chinook salmon in the Upper Columbia River ESU. The proposed programs produce steelhead of native stock to enhance local naturally spawning salmon populations.

Conservation Plans

The Conservation Plans prepared by WDFW and USFWS describe measures designed to monitor, minimize, and mitigate the take of ESA-listed anadromous steelhead and the incidental takes of ESA-listed salmon associated with the following steelhead hatchery programs that are proposed to be implemented from 2002 through 2007:

Eastbank Fish Hatchery Steelhead Program

The hatchery began operation in 1989 to mitigate for steelhead and salmon smolt losses resulting from the operation of Rock Island Dam. The hatchery is used for incubation and rearing of anadromous fish. Eastbank Fish Hatchery is located on the east side of the Columbia River near Rocky Reach Dam at river mile 475, 7 miles north of Wenatchee, Washington. Artificial propagation of steelhead is intended to recover and enhance the natural steelhead population in the Wenatchee River Basin. Up to 208 adult steelhead are collected for broodstock at Tumwater and Dryden dams on the Wenatchee River. Holding and spawning of broodstock is conducted at Eastbank or Wells hatcheries. There are no on-station releases of fish at Eastbank Hatchery. Fish reared at Eastbank Hatchery and transferred to other locations for acclimation/release or scatter planted using tank trucks. The proposed steelhead program goal is 200,000 smolts released into the Wenatchee River basin in April or May.

Turtle Rock Fish Hatchery Steelhead Program

The Turtle Rock Hatchery is located immediately downstream of Rocky Reach Dam on the Columbia River. The steelhead rearing ponds are located on Turtle Rock Island at river mile 475 in the Rocky Reach Dam pool on the Columbia River. The hatchery is operated as a mitigation facility for fishery impacts caused by the construction and operation of Rocky Reach Dam. Artificial propagation of steelhead at this facility are intended to enhance the natural steelhead population in the Wenatchee River Basin. Broodstock are not collected at Turtle Rock Hatchery. Currently, broodstock for the program is provided annually through the Eastbank Hatchery steelhead program. Rearing occurs on Columbia River water which provides the juvenile steelhead natural water temperature regimes and may increase smolt to adult survival and increase the hatchery reared steelhead’s ability to reproduce in the wild. The annual hatchery production goals are 200,000 juvenile steelhead for release in the Wenatchee River Basin in April and May.

Wells Fish Hatchery Steelhead Program

Wells Hatchery is located on the mainstem Columbia River just below Wells Dam at river mile 515. The hatchery operates as a mitigation facility for anadromous fish impacts caused by Wells Dam. The artificial propagation program is intended to enhance and assist in the recovery of natural populations in the Methow and Okanogan River Basins. Steelhead adults collected as broodstock for the enhancement program are trapped each year in July through November at Wells Dam fish ladders or as volunteers to the hatchery trap. Progeny of spawners trapped at Wells Hatchery are incubated on-station and reared on-station or transferred as eyed eggs to other WDFW facilities with final rearing and release at Ringold Springs facility, or transferred as eyed eggs to Winthrop National Fish Hatchery for rearing and release. The annual Wells Fish Hatchery release goal is 450,000 juvenile steelhead. Juvenile steelhead are released at various locations throughout the Methow and Okanogan basins.

Winthrop National Fish Hatchery Steelhead Program

Winthrop National Fish Hatchery (NFH) is operated by USFWS and located on the Methow River at river mile 50, near the town of Winthrop. The hatchery operates as a mitigation facility for anadromous fish impacts caused by the Grand Coulee Fish Maintenance Project. Artificially produced steelhead are intended to enhance and recover natural steelhead populations in the Methow River. This program receives 125,000 eyed eggs from WDFW Wells Fish Hatchery steelhead program for rearing and release. The annual program release goal is 100,000 juvenile steelhead. Juvenile hatchery steelhead are released from Winthrop NFH into the Methow River.

Ringold Steelhead Program

The program’s purpose is to provide a genetic reserve of UCR ESU steelhead. Approximately 240,000 eyed eggs from Wells Fish Hatchery will be transferred to other WDFW facilities for incubation and early rearing. Final rearing and release will occur at Ringold Springs Rearing Pond. The program goal is the release of 180,000 steelhead smolts in April or May.

Mortalities of ESA-listed fish associated with the steelhead hatchery programs are requested at levels specified in the Permit applications and in the Conservation Plans. The WDFW is proposing to limit broodstock collection and juvenile fish production and release methods applied at the hatcheries such that the direct impacts on ESA-listed salmonids will be minimized.

Broodstock Management Techniques

It is possible that in some years returns to the hatchery may exceed the number of returns necessary to produce the number of offspring considered advisable for release into this ESU. Therefore, this surplus may by definition not be essential for recovery efforts. Measures to manage hatchery adult returns include collection at specific sites for transplantation into landlocked lakes and limited harvest.

This notice is provided pursuant to section 10(c) of the ESA. NMFS will evaluate the applications, associated documents, and comments submitted thereon to determine whether the application meets the requirements of section 10(a)(1)(A) of the ESA. If it is determined that the requirements are met, permits will be issued to WDFW and USFWS for the steelhead enhancement programs in the Upper Columbia River. NMFS will publish a record of its final action in the Federal Register.

Dated: July 26, 2002.
Phil Williams,
Chief, Endangered Species Division, Office of Protected Resources, National Marine Fisheries Service.

[FR Doc. 02-19431 Filed 7-31-02; 8:45 am]

BILLING CODE 3510-22-S